DEPARTMENT OF LABOR

Employment and Training Administration

Reassignment and Delegation of Functions Under 20 CFR Parts 655 and 656 From the Regional Administrators, Employment and Training Administration, and the Director, United States Employment Service, to the Chief, Division of Foreign Labor Certification

The Assistant Secretary for Employment and Training has reassigned all functions of the Regional Administrators of the Employment and Training Administration (ETA) and the Director of the United States Employment Service under 20 CFR parts 655 and 656 (in effect through March 27, 2005) to the Chief, Division of Foreign Labor Certification. These functions relate to labor certifications for temporary and permanent employment of immigrant and nonimmigrant aliens in the United States. The reassignment of functions was made by Employment and Training Order Number 2-05, which is published below in the Federal Register in order to inform the public.

This reassignment and transfer of functions affects only agency organization, procedures and practice within ETA and does not affect the rights of individuals or the public. Good cause exists to make these changes immediately effective in order to effectively administer the regulations described above. The standards for making determinations under these regulations remain unchanged.

Signed in Washington, DC, this 30th day of June 2005.
Emily Stover DeRocco,
Assistant Secretary, Employment and Training Administration.

Attachment

BILLING CODE 4510-30-P

[FR Doc. 05-13319 Filed 7-6-05; 8:45 am]

BILLING CODE 4510-30-C